DEPARTMENT OF ENERGY

10 CFR Part 429

[Docket No. EERE-2009-BT-BC-0021]

Appliance Standards and Rulemaking Federal Advisory Committee: Notice of Membership of the Working Group for Manufactured Housing

AGENCY: Office of Energy Efficiency and Renewable Energy, U.S. Department of Energy.

ACTION: Notice of membership.

SUMMARY: This notice announces the members of the working group to negotiate energy efficiency standards for manufactured housing, under the Appliance Standards and Rulemaking Federal Advisory Committee (ASRAC) in accordance with the Federal Advisory Committee Act (FACA) and the Negotiated Rulemaking Act (NRA) to negotiate proposed Federal standards for the energy efficiency of manufactured homes. The purpose of the working group will be to discuss and, if possible, reach consensus on a proposed rule for the energy efficiency of manufactured homes, as authorized by section 413 of the Energy Independence and Security Act of 2007 (EISA). The working group consists of representatives of parties having a defined stake in the outcome of the proposed standards, and will consult as appropriate with a range of experts on technical issues.

DATES: An open meeting will be scheduled at a later date.

FOR FURTHER INFORMATION CONTACT: John Cymbalsky, ASRAC Designated Federal Officer, Supervisory Operations Research Analyst, U.S. Department of Energy (DOE), Office of Energy Efficiency and Renewable Energy, 950 L'Enfant Plaza SW., Washington, DC 20024. Phone: (202) 287-1692 Email: asrac@ee.doe.gov.

SUPPLEMENTARY INFORMATION:

Membership: The members of the Manufactured Housing Working Group were chosen from nominations submitted in response to the Department of Energy's call for nominations published in the Federal Register on June 13, 2014 in 79 FR 33873. The selections are designed to ensure a broad and balanced array of stakeholder interests and expertise on the negotiating working group for the purpose of developing a rule that is legally and economically justified, technically sound, fair to all parties, and in the public interest. All meetings are open to all stakeholders and the public, and participation by all is welcome within boundaries as required by the orderly conduct of business. The members of the Manufactured Housing Working Group are as follows:

DOE and ASRAC Representatives

• Joseph Hagerman (DOE)

• John Caskey (ASRAC, National Electrical Manufacturers Association)

Other Selected Members

• Bert Kessler, Palm Harbor Homes, Inc.

• David Tompos, NTA, Inc.

• Emanuel Levy, Systems Building Research Alliance

• Eric Lacey, Responsible Energy Codes Alliance

• Ishbel Dickens, National Manufactured Home Owners Association (NMHOA)

• Keith Dennis, National Rural Electric Cooperative Association

• Lois Starkey, Manufactured Housing Institute

• Lowell Ungar, American Council for an Energy-Efficient Economy

• Manuel Santana, Cavco Industries

• Mark Ezzo, Clayton Homes, Inc.

• Mark Weiss, Manufactured Housing Association for Regulatory Reform

• Michael Lubliner, Washington State University Extension Energy Program

• Michael Wade, Cavalier Home Builders

• Peter Schneider, Efficiency Vermont

• Richard Hanger, Housing Technology and Standards

• Richard Potts, Virginia Department of Housing and Community Development

• Rob Luter, Lippert Components, Inc.

• Robin Roy, Natural Resources Defense Council

• Scott Drake, East Kentucky Power Cooperative

• Stacey Epperson, Next Step Network

Docket: The docket is available for review at www.regulations.gov, including Federal Register notices, public meeting attendee lists and transcripts, comments, and other supporting documents/materials. All documents in the docket are listed in the www.regulations.gov index. However, not all documents listed in the index may be publicly available, such as information that is exempt from public disclosure.

The Secretary of Energy has approved publication of today's notice of proposed rulemaking.

Issued in Washington, DC, on July 8, 2014.
Kathleen B. Hogan,
Deputy Assistant Secretary for Energy Efficiency and Renewable Energy.

[FR Doc. 2014-16708 Filed 7-15-14; 8:45 am]

BILLING CODE 6450-01-P